FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 13, 2002.

A. Federal Reserve Bank of Atlanta (Sue Costello, Vice President) 1000 Peachtree Street, N.E., Atlanta, Georgia 30303:

1. George H. and Mary Ethel Eicher, Homestead, Florida, and George P. Eicher, Monticello, Kentucky; to retain voting shares of Community Bank of South Florida, Inc., Homestead, Florida, and thereby indirectly retain voting shares of Community Bank of Florida, Homestead, Florida.

B. Federal Reserve Bank of St. Louis (Randall C. Sumner, Vice President) 411 Locust Street, St. Louis, Missouri 63166-2034:

1. The Magers Family Control Group consisting of William G. Magers, Springfield, Missouri; William Bryan Magers, Springfield, Missouri; Randall Wood Magers, Springfield, Missouri; Magers Enterprises II, LLLP (“Partnership”), W. Bryan and Randall W. Magers, General Partners, Springfield, Missouri; Magers Family Irrevocable Trust (“Trust”); W. Bryan and Randall W. Magers, Trustees, Springfield, Missouri, to gain control of Marshfield Investment Company, Springfield, Missouri (“Company”), and thereby acquire voting shares of Bank of Kimberling City, Kimberling City, Missouri; First National Bank, LaMar, Missouri; and Metropolitan National Bank, Springfield, Missouri. In connection with this application, William Bryan Magers and Randall Wood Magers, both of Springfield, Missouri, individually and as general partners of Partnership and Trustees of Trust, will increase their aggregate voting control of Company's voting stock.

Board of Governors of the Federal Reserve System, November 22, 2002.
Robert deV. Frierson,
Deputy Secretary of the Board.

[FR Doc. 02-30147 Filed 11-26-02; 8:45 am]

BILLING CODE 6210-01-S